NUCLEAR REGULATORY COMMISSION

[NRC-2011-0255]

Annual Public Meeting of the Interagency Steering Committee on Multimedia Environmental Modeling

AGENCY: Nuclear Regulatory Commission.

ACTION: Notice of meeting.

SUMMARY: The annual public meeting of the Federal Interagency Steering Committee on Multimedia Environmental Modeling (ISCMEM) will convene to discuss the latest developments in environmental modeling applications, tools and frameworks as well as new operational initiatives for FY 2012 among the participating agencies. The meeting will be hosted by the U.S. Nuclear Regulatory Commission, one of the participants in the ISCMEM, at its headquarters building in Rockville, MD. The meeting is open to the public and all interested parties may attend.

DATES: November 28 and 29, 2011, from 8:30 a.m. to 5:30 p.m., EST.

ADDRESSES: Nuclear Regulatory Commission, Two White Flint North Auditorium, 11545 Rockville Pike, Rockville, Maryland.

FOR FURTHER INFORMATION CONTACT: Pre-registration may be accomplished through the ISCMEM public Web site: https://iemhub.org/groups/iscmem2011meeting. Instructions for registration through the Web site may be requested by email to: Mark.Fuhrmann@nrc.gov. Other inquiries and notice of intent to attend the meeting (including indication of citizenship and affiliation) may be faxed or emailed to: Mark Fuhrmann, Environmental Transport Branch, Office of Nuclear Regulatory Research, U.S. Nuclear Regulatory Commission, Washington, DC 20555, Tel (301) 251-7472, Fax (301) 251-7422, email: Mark.Fuhrmann@nrc.gov.

SUPPLEMENTARY INFORMATION: Background: In 2001, six Federal agencies began formal cooperation under a Memorandum of Understanding (MOU) on the research and development of multimedia (i.e., air, soil, water) environmental models. This MOU established the Interagency Steering Committee on Multimedia Environmental Modeling. The MOU was revised and renewed in 2006, and has just been revised and renewed for a third five year period in 2011. The MOU establishes a framework for facilitating cooperation and coordination among research organizations in the participating agencies. The first five agencies to sign the current renewal of the MOU include: The National Science Foundation; the U.S. Nuclear Regulatory Commission; the Environmental Protection Agency; the U.S. Department of Energy, Office of Environmental Management; and the U.S. Geological Survey. Other agencies are still reviewing the revised MOU. These agencies are cooperating and coordinating in the research and development of multimedia environmental models, software and related databases, including development, enhancements, applications and assessments of site specific, generic, and process-oriented multimedia environmental models as they pertain to human and environmental health risk assessment. Multimedia model development and simulation supports interagency interests in risk assessment, uncertainty analyses, water supply issues and assessments of contaminant transport.

Purpose of the Public Meeting: The annual public meeting provides an opportunity for the scientific community, other Federal and State agencies, and the public to be briefed on ISCMEM activities and their initiatives for the upcoming year, and to discuss technological advancements in multimedia environmental modeling.

Proposed Agenda: The ISCMEM Chair will open the meeting with a brief overview of the goals of the MOU and an update on current activities and future plans of ISCMEM. This introduction will be followed by a series of invited technical presentations for the remainder of the first day and the morning of the second day focusing on topics of mutual interest to ISCMEM participants. The steering committee will hold an open business session on the afternoon of the second day. A detailed agenda with presentation titles and speakers will be posted on the ISCMEM public Web site: https://www.iemhub.org/groups/iscmem2011meeting. The agenda and instructions for registration will also be available through the list of public meetings on the US Nuclear Regulatory Commission Web site at http://www.nrc.gov/public-involve/public-meetings.html.

Meeting Access: The auditorium of the U.S. Nuclear Regulatory Commission Headquarters building is located at 11545 Rockville Pike, Rockville, MD, directly across Marinelli Road from the White Flint Metro stop. The most convenient transportation to the meeting venue is via Metro Rail since there is extremely limited on-street parking. Please take Metro to the White Flint Metro stop on the Red Line. Please allow time to register with building security and bring two photo ID's. Direct access to the auditorium will be available around the back of the building for those who have pre-registered through the web site listed above under For Further Information Contact or via the agency contact information. Please follow signs for the ISCMEM public meeting.

The NRC provides reasonable accommodation to individuals with disabilities where appropriate. If you need a reasonable accommodation to participate in this meeting, or need this meeting notice or the transcript or other information from the meeting in another format (e.g., Braille, large print), please notify the NRC's meeting coordinator. Determinations on requests for reasonable accommodation will be made on a case-by-case basis.

Dated at Rockville, Maryland, this 28 day of October 2011.
For the Nuclear Regulatory Commission.
William R. Ott,
Chief, Environmental Transport Branch, Division of Risk Analysis, Office of Nuclear Regulatory Research.

[FR Doc. 2011-29030 Filed 11-8-11; 8:45 am]

BILLING CODE 7590-01-P